DEPARTMENT OF THE INTERIOR

Bureau of Land Management

[LLOR-936000-L14300000-ET0000-HAG12-0000; WAOR-19641]

Public Land Order No. 7798; Partial Modification of Power Site Classification No. 126; Washington

AGENCY: Bureau of Land Management, Interior.

ACTION: Public land order.

SUMMARY: This order partially modifies a withdrawal which established Power Site Classification No. 126, insofar as it affects approximately 21.70 acres of National Forest System land withdrawn to protect water power values along the Nooksack River in Whatcom County, Washington. This order opens the land to such forms of disposition as may by law be made of National Forest System lands subject to a Section 24 Federal Power Act reservation.

DATES: Effective Date: September 24, 2012.

FOR FURTHER INFORMATION CONTACT: Robin Ligons, Bureau of Land Management Oregon State Office, 333 SW 1st Ave., Portland, Oregon 97204, 503-808-6169. Persons who use a telecommunications device for the deaf (TDD) may call the Federal Information Relay Service (FIRS) at 1-800-877-8339 to contact the above individual. The FIRS is available 24 hours a day, 7-days a week, to leave a message or question with the above individual. You will receive a reply during normal business hours.

SUPPLEMENTARY INFORMATION: The Bureau of Land Management has determined that a portion of the land classified under Power Site Classification No. 126 for water power purposes will not be injured by U.S. Forest Service conveyance of the land out of Federal ownership under authority of the Small Tract Act, subject to Section 24 of the Federal Power Act reservation applied to the conveyance document. The Federal Energy Regulatory Commission has no objections to the modification.

Order

By virtue of the authority vested in the Secretary of the Interior by Section 204 of the Federal Land Policy and Management Act of 1976, 43 U.S.C. 1714, it is ordered as follows:

1. The withdrawal created by the Secretarial Order dated January 23, 1926, which established Power Site Classification No. 126, is hereby modified to open the land to such forms of disposition as may by law be made of National Forest System lands insofar as it affects the following described land:

Willamette Meridian

T. 39 N., R. 7 E.,

Sec. 6, lot 13.

The area described contains 21.70 acres in Whatcom County.

2. At 9 a.m. on September 24, 2012 the land described in Paragraph 1 is hereby open to such form of disposition as may by law be made of National Forest System lands subject to Section 24 of the Federal Power Act of June 10, 1920, as amended (16 U.S.C. 818).

Dated: September 7, 2012.
Rhea S. Suh,
Assistant Secretary—Policy, Management and Budget.

[FR Doc. 2012-23475 Filed 9-21-12; 8:45 am]

BILLING CODE 3410-11-P